DEPARTMENT OF HOMELAND SECURITY

Federal Emergency Management Agency

44 CFR Part 67

Final Flood Elevation Determinations

AGENCY: Federal Emergency Management Agency, DHS.

ACTION: Final rule.

SUMMARY: Base (1% annual chance) Flood Elevations (BFEs) and modified BFEs are made final for the communities listed below. The BFEs and modified BFEs are the basis for the floodplain management measures that each community is required either to adopt or to show evidence of being already in effect in order to qualify or remain qualified for participation in the National Flood Insurance Program (NFIP).

DATES: The date of issuance of the Flood Insurance Rate Map (FIRM) showing BFEs and modified BFEs for each community. This date may be obtained by contacting the office where the maps are available for inspection as indicated on the table below.

ADDRESSES: The final BFEs for each community are available for inspection at the office of the Chief Executive Officer of each community. The respective addresses are listed in the table below.

FOR FURTHER INFORMATION CONTACT: William R. Blanton, Jr., Engineering Management Section, Mitigation Division, Federal Emergency Management Agency, 500 C Street, SW., Washington, DC 20472, (202) 646-3151.

SUPPLEMENTARY INFORMATION: The Federal Emergency Management Agency (FEMA) makes the final determinations listed below for the modified BFEs for each community listed. These modified elevations have been published in newspapers of local circulation and ninety (90) days have elapsed since that publication. The Mitigation Division Director of FEMA has resolved any appeals resulting from this notification.

This final rule is issued in accordance with section 110 of the Flood Disaster Protection Act of 1973, 42 U.S.C. 4104, and 44 CFR part 67. FEMA has developed criteria for floodplain management in floodprone areas in accordance with 44 CFR part 60.

Interested lessees and owners of real property are encouraged to review the proof Flood Insurance Study and FIRM available at the address cited below for each community. The BFEs and modified BFEs are made final in the communities listed below. Elevations at selected locations in each community are shown.

National Environmental Policy Act. This final rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This final rule is not a significant regulatory action under the criteria of section 3(f) of Executive Order 12866 of September 30, 1993, Regulatory Planning and Review, 58 FR 51735.

Executive Order 13132, Federalism. This final rule involves no policies that have federalism implications under Executive Order 13132.

Executive Order 12988, Civil Justice Reform. This final rule meets the applicable standards of Executive Order 12988.

List of Subjects in 44 CFR Part 67

Administrative practice and procedure, Flood insurance, Reporting and recordkeeping requirements.

Accordingly, 44 CFR part 67 is amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Flooding source(s) | Location of referenced elevation | *Elevation in feet (NGVD) +Elevation in feet (NAVD) # Depth in feet above ground. Modified | Communities affected
Essex County, New Jersey and Incorporated Areas Docket No.: FEMA-B-7458
Bear Brook | At Confluence with Canoe Brook | +223 | Township of Livingston.
| Approximately 1800 feet upstream of East Cedar Street | +367
Canoe Brook | Approximately 1500 feet downstream of S. Orange Avenue | +202 | Township of Livingston.
| At Confluence of Bear Brook | +223
Canoe Brook Tributary No. 1 | At Confluence with Canoe Brook | +204 | Township of Livingston.
| Approximately 1100 feet upstream of White Oak Ridge Road | +254 | Township of Milburn.
Crystal Lake Branch | At Confluence with West Branch of Rahway River | +372 | Township of West Orange.
| Approximately 200 feet upstream of Clarken Drive | +498
Peckman River | Approximately 1300 feet upstream of Erie Railroad | +180 | Township of Cedar Grove, Township of Verona, Township of West Orange.
| Approximately 250 feet downstream of Highway 577 | +474
East Branch Rahway River | Approximately 200 feet upstream of Millburn Avenue | +99 | City of Orange, Village of South Orange, Township of Maplewood.
| Just downstream of Forest Street | +167
West Branch Rahway River | Approximately 400 feet downstream of Orange Reservoir Dam | +298 | Township of West Orange.
| At Garfield Avenue | +374
Slough Brook | Just Downstream of Parsonage Hill Road | +177 | Township of Livingston.
| At Irving Avenue | +280
# Depth in feet above ground.
*National Geodetic Vertical Datum.
+North American Vertical Datum.
ADDRESSES
Township of Cedar Grove
Maps are available for inspection at the following locations: Municipal Building, 525 Pompton Avenue, Cedar Grove, NJ 07009.
Township of Livingston
Maps are available for inspection at the following locations: Town Hall, 357 South Livingston Avenue, Livingston, NJ 07039.
Township of Maplewood
Maps are available for inspection at the following locations: Town Hall, 570 Valley Street, Maplewood, NJ 07040.
Township of Millburn
Maps are available for inspection at the following locations: Town Hall, 375 Millburn Avenue, Millburn, NJ 07041.
City of Orange
Maps are available for inspection at the following locations: City Hall, 29 North Day Street, Orange, NJ 07050.
South Orange Village
Maps are available for inspection at the following locations: South Orange Village Hall, 101 South Orange Avenue, South Orange, NJ 07079.
Township of Verona
Maps are available for inspection at the following locations: Town Hall, 600 Bloomfield Avenue, Verona, NJ 07044.
Township of West Orange
Maps are available for inspection at the following locations: Town Hall, 66 Main Street, West Orange, NJ 07052.

(Catalog of Federal Domestic Assistance No. 83.100, “Flood Insurance.”)

Dated: December 13, 2006.
David I. Maurstad,
Director, Mitigation Division, Federal Emergency Management Agency, Department of Homeland Security.

[FR Doc. E6-21680 Filed 12-19-06; 8:45 am]

BILLING CODE 9110-12-P